DEPARTMENT OF COMMERCE

National Oceanic and Atmospheric Administration

50 CFR Part 660

[Docket No. 220510-0113]

RIN 0648-BK78

Fisheries Off West Coast States; West Coast Salmon Fisheries; 2022 Specifications and Management Measures

AGENCY: National Marine Fisheries Service (NMFS), National Oceanic and Atmospheric Administration (NOAA), Commerce.

ACTION: Final rule.

SUMMARY: Through this final rule, NMFS establishes fishery management measures for the 2022 ocean salmon fisheries off Washington, Oregon, and California, and the 2023 salmon seasons opening earlier than May 16, 2023, under the authority of the Magnuson-Stevens Fishery Conservation and Management Act (MSA). The fishery management measures vary by fishery and by area and establish fishing areas, seasons, quotas, legal gear, recreational fishing days and catch limits, possession and landing restrictions, and minimum lengths for salmon taken in the U.S. Exclusive Economic Zone (EEZ) (3-200 nautical miles (nmi)) (5.6-370.4 kilometers (km)) off Washington, Oregon, and California. The management measures are intended to prevent overfishing and to apportion the ocean harvest equitably among treaty Indian, non-Indian commercial, and recreational fisheries. The measures are also intended to allow a portion of the salmon runs to escape the ocean fisheries in order to provide for spawning escapement, comply with applicable law, and to provide fishing opportunity for inside fisheries (fisheries occurring in state waters).

DATES: This final rule is effective from 0001 hours Pacific Daylight Time, May 16, 2022, until the effective date of the 2023 management measures, as published in the Federal Register.

ADDRESSES: The documents cited in this document are available on the Pacific Fishery Management Council's (Council's) website (www.pcouncil.org).

FOR FURTHER INFORMATION CONTACT: Shannon Penna at 562-676-2148.

SUPPLEMENTARY INFORMATION:

Background

The ocean salmon fisheries in the EEZ off the coasts of Washington, Oregon, and California are managed under a framework fishery management plan (FMP). Regulations at 50 CFR part 660, subpart H, provide the mechanism for making preseason and inseason adjustments to the management measures, within limits set by the FMP, by notification in the Federal Register. Regulations at 50 CFR 660.408 govern the establishment of annual management measures.

The management measures for the 2022 and early 2023 ocean salmon fisheries that are implemented in this final rule were recommended by the Council at its April 6 to 13, 2022, meeting.

Process Used To Establish 2022 Management Measures

The Council announced its annual preseason management process for the 2022 ocean salmon fisheries on the Council's website at www.pcouncil.org (December 3, 2021), and in the Federal Register on December 9, 2021 (86 FR 70114). NMFS published an additional notice of opportunity to submit public comments on the 2022 ocean salmon fisheries in the Federal Register on January 31, 2022 (87 FR 4869). These notices announced the availability of Council documents, the dates and locations of Council meetings and public hearings comprising the Council's complete schedule of events for determining the annual proposed and final modifications to ocean salmon fishery management measures, and instructions on how to comment on the development of the 2022 ocean salmon fisheries. The agendas for the March and April Council meetings were published in the Federal Register (87 FR 9324, February 18, 2022, and 87 FR 15944, March 21, 2022, respectively), and posted on the Council's website prior to the meetings.

In accordance with the FMP, the Council's Salmon Technical Team (STT) and economist prepared four reports for the Council, its advisors, and the public. All four reports were made available on the Council's website upon their completion. The first of the reports, “Review of 2021 Ocean Salmon Fisheries,” was prepared in February when the first increment of scientific information necessary for crafting management measures for the 2022 and early 2023 ocean salmon fisheries became available. The first report summarizes biological and socio-economic data from the 2021 ocean salmon fisheries and assesses the performance of the fisheries with respect to the Council's 2021 management objectives as well as provides historical information for comparison. The second report, “Preseason Report I Stock Abundance Analysis and Environmental Assessment Part 1 for 2022 Ocean Salmon Fishery Regulations” (PRE I), provides the 2022 salmon stock abundance projections and analyzes how the stocks and Council management goals would be affected if the 2021 management measures (the No-Action Alternative under the National Environmental Policy Act (NEPA)) were continued for the 2022/2023 fishing season. The completion of PRE I is the initial step in developing and evaluating the full suite of preseason alternatives.

Following completion of the first two reports, the Council met via webinar and in-person from March 8 to 14, 2022, to develop 2022 management alternatives for proposal to the public and consideration under NEPA. The Council proposed three alternatives for commercial and recreational fisheries management, and three alternatives for treaty Indian fisheries management for analysis and public comment. These alternatives consisted of various combinations of management measures designed to ensure that stocks of coho and Chinook salmon meet conservation goals, and to provide for ocean harvests of more abundant stocks. After the March Council meeting, the Council's STT and economist prepared a third report, “Preseason Report II Proposed Alternatives and Environmental Assessment Part 2 for 2022 Ocean Salmon Fishery Regulations” (PRE II), which analyzes the effects of the proposed 2022 management alternatives.

The Council sponsored public hearings via webinar to receive testimony on the proposed alternatives on March 22, 2022, for Washington and California, and on March 23, 2022, for Oregon. The states of Washington, Oregon, and California sponsored meetings in various forums that also collected public testimony, which was then presented to the Council by each state's Council representative. The Council also received public testimony at both the March and April meetings and received written comments at the Council office and electronic submissions via the Council's electronic portal and via www.regulations.gov.

The Council met from April 7 to 13, 2022, via webinar and in-person, to adopt its final 2022 ocean salmon management recommendations; which it did on April 12, 2022. Following the April Council meeting, the Council's STT and economist prepared a fourth report, “Preseason Report III Analysis of Council-Adopted Management Measures for 2022 Ocean Salmon Fisheries” (PRE III), which analyzes the environmental and socioeconomic effects of the Council's final recommendations (the Council's Proposed Action under NEPA). The Council transmitted the recommended management measures to NMFS on April 28, 2022, and published them on its website (www.pcouncil.org).

Under the FMP, the ocean salmon management cycle begins May 16 and continues through May 15 of the following year. This final rule is effective on May 16, 2022, consistent with the FMP. Fisheries that begin prior to May 16, 2022, are governed by the final rule implementing the salmon fishery management measures for the 2021 ocean salmon season (86 FR 26425, May 14, 2021; 86 FR 28293, May 26, 2021). The majority of fisheries recommended by the Council for 2022 begin May 16, 2022, and are authorized under this rule. Salmon fisheries scheduled to begin before May 16, 2022, which were authorized under the 2021 rule, are:

• Commercial ocean salmon fisheries from the U.S./Canada border to the Oregon/California border,

• Commercial ocean salmon fisheries from Pigeon Point, CA, to the U.S./Mexico border,

• Recreational ocean salmon fisheries from Cape Falcon, OR, to Humbug Mountain, OR,

• Recreational ocean salmon fisheries from the Oregon/California border to the U.S./Mexico border, and

• Treaty Indian troll ocean salmon fisheries north of Cape Falcon.

For purposes of analyzing the impacts of these fisheries on individual stocks relative to the applicable objectives in the FMP, Council analysts assumed fisheries between March 15 to May 15, 2022, would be conducted under the 2021 management measures, consistent with the effective date of the 2021 salmon management measures rule and subsequent inseason actions under 50 CFR 660.409. Several fisheries scheduled to open between March 15, 2022, and May 15, 2022, were modified through inseason action to shorten or delay the fisheries in response to updated salmon stock forecast information for 2022.

National Environmental Policy Act (NEPA)

The environmental assessment (EA) for this action comprises the Council's documents described above (PRE I, PRE II, and PRE III), providing an analysis of environmental and socioeconomic effects under NEPA. The EA and its related Finding of No Significant Impact are posted on the NMFS West Coast Region website (www.fisheries.noaa.gov/region/west-coast).

Resource Status

Stocks of Concern

The FMP requires that the fisheries be managed to meet escapement-based Annual Catch Limits (ACLs), Endangered Species Act (ESA) consultation requirements, obligations of the Pacific Salmon Treaty (PST) between the United States and Canada, and other conservation objectives detailed in the FMP. In addition, under the MSA, all regulations must be consistent with other applicable laws. Because the ocean salmon fisheries are mixed-stock fisheries, this requires “weak stock” management to avoid exceeding limits for the stocks with the most constraining limits. Abundance forecasts for individual salmon stocks can vary significantly from one year to the next; therefore, the stocks that constrain the fishery in one year may differ from those that constrain the fishery in the next. For 2022, several stocks will constrain fisheries; these are described below.

Fisheries south of Cape Falcon are limited in 2022 primarily by conservation concerns for Klamath River fall-run Chinook salmon (KRFC) and the ESA-listed California Coastal (CC) Chinook salmon evolutionarily significant unit (ESU). NMFS determined in 2018 that the KRFC stock was overfished, as defined under the MSA and the FMP, and it is being managed under a rebuilding plan (85 FR 75920, November 27, 2020). In addition to KRFC, three coho salmon stocks (Queets River natural coho salmon, Strait of Juan de Fuca natural coho salmon and Snohomish River natural coho salmon) were determined in 2018 to be overfished and are being managed under rebuilding plans (86 FR 9301, February 12, 2021). Meeting conservation objectives for these three coho salmon stocks will not constrain fisheries in 2022.

Fisheries north of Cape Falcon are limited by ESA conservation requirements for the Lower Columbia River (LCR) Chinook salmon ESU—primarily the natural tule component of the LCR Chinook salmon ESU. The limitations imposed in order to protect these stocks are described below. The alternatives and the Council's adopted management measures for 2022 were designed to avoid exceeding these limitations.

KRFC (non-ESA-listed): Abundance for this non-ESA-listed stock in the last decade has been historically low, and the stock is currently overfished based on spawning escapement in 2015, 2016, and 2017. The FMP defines “overfished” status in terms of a three-year geometric mean escapement level and whether it is below the minimum stock size threshold (MSST). The forecast abundance for KRFC in 2022 is 200,117. Fisheries in 2022 will be constrained in Oregon and California to meet the requirements of the KRFC harvest control rule in the FMP and the rebuilding plan, to meet a 25 percent de minimis exploitation rate, which results in a natural-area spawning escapement projection of 38,180, which is greater than the MSST (30,525 spawners), but below the maximum sustainable yield spawner escapement (SMSY) (40,700 spawners). A natural-area escapement of 38,180 adults would represent the 25th lowest value over the past 44 years of data. Ocean salmon fisheries south of Cape Falcon, particularly in the Klamath Management Zone (KMZ) from Humbug Mountain, OR, to Horse Mountain, CA, will be constrained to meet this goal.

California Coastal (CC) Chinook salmon—ESA-listed Threatened: The CC Chinook salmon ESU has been listed as threatened under the ESA since 1999. To meet requirements of the 2005 biological opinion on Council fisheries for CC Chinook salmon, salmon fisheries off Northern California and Southern Oregon will be severely constrained in 2022 to limit fishery impacts on age-4 KRFC, which serves as a surrogate for these fisheries' impact on CC Chinook salmon. The ESU has been managed for a consultation standard not to exceed a 16 percent age-4 ocean harvest rate on KRFC Chinook salmon. On March 28, 2022, NMFS reinitiated consultation on the effects of the implementation of the FMP on CC Chinook salmon because the post-season assessment of the 2021 ocean fisheries indicated that the take limit for CC Chinook salmon had been exceeded. The NMFS guidance for CC Chinook salmon was to manage 2022 ocean salmon fisheries more conservatively so as not to exceed the 16 percent age-4 ocean harvest rate on KRFC salmon given the pattern of performance in recent years. NMFS expects to complete the reinitiated consultation in time to inform the 2023 management measures for the fisheries.

Pending completion of the reinitiated consultation, NMFS assessed the potential effects of the 2022 fisheries on CC Chinook salmon and reported on that assessment at the March Council meeting. The assessment included consideration of all information currently available relating to the impacts of Council fisheries on the CC Chinook salmon ESU. NMFS considered the most recent revisions to the Klamath Ocean Harvest Model (KOHM), the information presented in Pre-I analyzing the effects of the model revisions, analyses of contact rate patterns provided by California Department of Fish and Wildlife (CDFW) staff, environmental conditions that may contribute to high contact rates on CC Chinook salmon, and discussions with the Salmon Advisory Subpanel and Oregon and California state managers.

Unusually high contact rates relative to effort in the fishery appear to be one of the primary drivers in the higher age-4 KRFC rates in recent years. The revisions to the KOHM use contact rates in the most recent years (2015-2019). Contact rates in those years are the highest in the data series for most areas and are higher in most areas and months when compared to the contact rates used in 2021 modelling. The analysis of the KOHM revisions as summarized in Appendix D of the Pre-I report indicates that the revisions made in 2022 substantially reduce the likelihood of exceeding the age-4 KRFC ocean salmon limit when compared to the data used in the 2021 KOHM revision. However, the retrospective analysis indicates that the updated model would still have under-predicted the KRFC age-4 ocean exploitation rate limit in 3 of the 4 years in the analysis by an average of 18 percent, and substantially so in 2021. Adjusting for the 18 percent under-prediction results in an age-4 KRFC harvest rate target of 9 to 11.5 percent.

Environmental indicators have also been an important driver in the pattern of contact rates in recent years. Ocean conditions have likely led to the high survival and concentration of anchovies and other preferred prey off Fort Bragg and San Francisco management areas in recent years. Salmon have followed the food, concentrating in those areas as well. Low flows and high temperatures in the Sacramento and Klamath Rivers may have led to thermal blockages impeding migration into the rivers and low freshwater survival of spawners. The Integrated Ecosystem Assessment presented at the March Council meeting indicates the conditions observed in 2021 are likely to continue in 2022. Discussions with the Council's Salmon Advisory Subpanel (SAS) and CDFW staff along with the documentation describing proposed fishing regimes under consideration by the Council indicate that ocean salmon seasons in 2022 will be much more constrained in 2022 when compared with 2021 for the areas and months with greatest impacts to KRFC Chinook. The collective information indicated the risk of an over-prediction of the age-4 KRFC ocean harvest rate was reduced compared to an assessment of prior performance. However, the uncertainty in the information indicated a cautious approach was warranted, and NMFS' guidance was to manage 2022 ocean fisheries using a target age-4 KRFC ocean exploitation rate of 10 percent.

The adopted management measures result in a projected KRFC age-4 ocean harvest rate of 10 percent, which is consistent with the 2022 NMFS guidance to limit the forecast KRFC age-4 ocean harvest rate to a maximum of 10 percent. Based on that assessment, NMFS has made a determination that, consistent with sections 7(a)(2) and 7(d) of the ESA, this action will not jeopardize any listed species, would not adversely modify designated critical habitat, and will not result in any irreversible or irretrievable commitment of resources that would have the effect of foreclosing the formulation or implementation of any reasonable and prudent alternative measures (NMFS 2019).

Southern Oregon/Northern California Coastal Coho salmon (SONCC coho): The SONCC coho salmon ESU consists of all naturally produced populations of coho salmon from coastal streams between Cape Blanco, OR, and Punta Gorda, CA, and limited artificial propagation programs (currently: Cole Rivers Hatchery in Oregon, and Trinity and Iron Gate Hatcheries in California). Under the FMP, ESA consultation standards are used to manage ESA-listed stocks, including SONCC coho salmon. In January 2022, the Council adopted a new harvest control rules for SONCC coho salmon for recommendation to NMFS, informed by the risk assessment produced by the Ad-hoc SONCC Coho Salmon Technical Workgroup. In January of 2022, the Council adopted new harvest control rules limiting the total fishery (marine and freshwater) exploitation rate to 15 percent, for all populations within the SONCC ESU, except the Trinity River coho salmon population, which is limited to 16 percent. Salmon fisheries in 2022 will be managed consistent with these harvest control rules. NMFS' West Coast Region signed a new biological opinion on harvest impacts to SONCC coho salmon under the new control rule on April 28, 2022 (WCRO-2021-03260).

LCR Chinook salmon (ESA-listed threatened): The LCR Chinook salmon ESU comprises a spring component, a “far-north” migrating bright component, and a tule component. The bright and tule components both have fall run timing. There are twenty-one separate populations within the tule component of this ESU. Unlike the spring or bright populations of the ESU, LCR tule populations are caught in large numbers in Council fisheries, as well as fisheries to the north and in the Columbia River. Therefore, this component of the ESU is the one most likely to constrain Council fisheries in the area north of Cape Falcon. Under the provisions of NMFS' 2012 biological opinion on the impact of Council-area salmon fisheries on LCR Chinook salmon, Council fisheries must be managed subject to an abundance-based management (ABM) framework, after accounting for anticipated impacts in northern fisheries and freshwater fisheries that are outside the action area. Applying the ABM framework to the 2022 preseason abundance forecast, the total LCR tule exploitation rate for all salmon fisheries is limited to a maximum of 38 percent. Fisheries will be constrained north of Cape Falcon in 2022 such that, when combined with all other salmon fisheries in the ocean and in the Columbia River below Bonneville Dam, the ESA requirement is met.

Other Resource Issues

Southern Resident Killer Whale (SRKW) (ESA-listed endangered): The SRKW distinct population segment (DPS) was listed under the ESA as endangered in 2005 (70 FR 69903, November 18, 2005). At its 2019 meeting, the Council formed an ad hoc workgroup (SRKW Workgroup), including salmon and SRKW experts, to develop a long-term approach that included proposed conservation measures and management tools that would limit PFMC fishery impacts to prey availability for SRKW relative to implementing the FMP.

The SRKW workgroup developed a risk assessment report which suggests that Chinook salmon abundance north of Cape Falcon is consistently more important to SRKW than abundance in areas south of Cape Falcon. The report noted that the SRKW DPS is observed north of Cape Falcon in all seasons and likely has some direct overlap with the salmon fisheries every year, whereas there is likely limited overlap with the salmon fisheries in some years south of Cape Falcon. Furthermore, the contribution of Chinook salmon south of Cape Falcon to SRKW diet may also be largely confined to the winter/spring season, after maturing fall-run Chinook salmon adults that escaped the current year's fishery leave the ocean. The report also provided evidence that, after executing Council-area salmon fisheries, the percent of prey remaining and available to SRKW has increased coastwide over the last several decades. The SRKW Workgroup's risk assessment report provides the most current information on SRKW and their predator-prey interaction with Pacific salmon.

Based largely on the SRKW Workgroup's risk assessment report, the Council developed an approach to set a Chinook salmon annual abundance management threshold below which the Council and NMFS would implement specific measures to limit ocean salmon fishery impacts on Chinook salmon in order to increase salmon prey availability for SRKW. These measures include time and area closures, a quota limitation for the North of Falcon area, and temporal shifts in fishing. At its November 2020 meeting, the Council adopted this approach as an amendment to the FMP for recommendation to NMFS (Amendment 21 to the FMP). NMFS completed an ESA consultation on authorization of the ocean salmon fishery in the west coast EEZ through approval of the FMP and promulgation of regulations implementing the plan, including approval and implementation of Amendment 21 in 2021 (86 FR 51017, September 14, 2021) that concluded that the action was not likely to jeopardize the continued existence of the SRKW DPS or destroy or adversely modify its designated or proposed critical habitat. The Council and NMFS considered the Chinook salmon abundance relative to the provisions of Amendment 21 when developing 2022 annual management measures. Because the pre-season estimate of the abundance of Chinook salmon in 2022 exceeds the threshold in the FMP, the Council did not recommend implementation of the additional management measures included in the FMP. The 2022 management measures are consistent with the proposed action analyzed in the 2021 biological opinion.

Hoko summer/fall Chinook salmon (Hoko Chinook salmon): The Hoko Chinook salmon stock is managed in Council-area and in northern fisheries, subject to the provisions of the Council's salmon FMP and the PST. Under the FMP, Hoko Chinook salmon are managed for spawning escapement of 850 naturally spawning adults. The forecast of Hoko Chinook salmon in 2022 is for an escapement of 940 adult Chinook salmon in the absence of fishing. With the northern fisheries that are expected to occur within the limit identified in the PST, the spawning escapement is projected to be at a level below the escapement goal. Escapement in the last 5 years has averaged 1,726 (with a range of 1,188-2,179), consistently higher than the escapement goal. Under the provisions of the PST, Hoko Chinook salmon are managed to an exploitation rate limit of 10 percent in southern U.S. fisheries. The projected exploitation rate for 2022 is 2.1 percent, of which 1.9 percent is occurring in Council area fisheries, well below the 10 percent PST limit. This represents a level of fishery impact in Council area fisheries that is below the levels defined as de minimis for other Chinook salmon stocks in the FMP. The state of Washington and the treaty tribes support the proposed fishery management measures that are anticipated to lead to a projected escapement of 735 adult spawners. The FMP specifies that “Annual natural spawning escapement targets may vary from FMP conservation objectives if agreed to by Washington Department of Fish and Wildlife (WDFW) and treaty tribes under the provisions of Hoh v. Baldrige and subsequent U.S. District Court orders.” Salmon fishery impacts on Hoko Chinook salmon are therefore consistent with limits required by the PST and provisions of the FMP.

Annual Catch Limits and Status Determination Criteria

Annual Catch Limits (ACLs) are required for all stocks or stock complexes in the fishery that are not managed under an international agreement, listed under the ESA, or designated as hatchery stocks. For salmon, these reference points are defined in terms of spawner escapement. ACLs are set for two Chinook salmon stocks, SRFC and KRFC, and one coho salmon stock, Willapa Bay natural coho salmon. The Chinook salmon stocks are indicator stocks for the Central Valley Fall Chinook salmon complex, and the Southern Oregon/Northern California Chinook salmon complex, respectively. The Far North Migrating Coastal Chinook salmon complex (FNMC) includes a group of Chinook salmon stocks that are caught primarily in fisheries north of Cape Falcon and other fisheries that occur north of the U.S./Canada border. No ACL is set for FNMC stocks because they are managed subject to provisions of the PST between the United States (U.S.) and Canada (the MSA provides an international exception from ACL requirements that applies to stocks or stock complexes subject to management under an international agreement, which is defined as “any bilateral or multilateral treaty, convention, or agreement which relates to fishing and to which the U.S. is a party” (50 CFR 600.310(h)(1)(ii)). The Columbia Upper River Bright Fall and Summer Chinook stocks are also managed under the provisions of the PST. Other Chinook salmon stocks caught in fisheries north of Cape Falcon are ESA-listed or hatchery produced, and are managed consistent with ESA consultations or hatchery goals. Willapa Bay natural coho salmon is the only coho salmon stock for which an ACL is set, as the other coho salmon stocks in the FMP are either ESA-listed, hatchery produced, or managed under the PST.

ACLs for salmon stocks are escapement-based, which means they establish a number of adults that must escape the fisheries to return to the spawning grounds. ACLs are set based on the annual potential spawner abundance forecast and a fishing rate reduced to account for scientific uncertainty. For SRFC in 2022, the overfishing limit (OFL) is SOFL = 396,458 (potential spawner abundance forecast) multiplied by 1−FMSY (1−0.78) or 87,221 returning spawners (FMSY is the fishing mortality rate that would result in maximum sustainable yield—MSY). SABC (the spawner escapement that is associated with the acceptable biological catch) is 396,458 multiplied by 1−FABC (1−0.70) (FMSY reduced for scientific uncertainty = 0.70) or 118,937. The SACL is set equal to SABC, i.e., 118,937 spawners. SRFC has a conservation objective of 122,000-180,000 spawning escapement. In recent years, the stock has not met the low end of this objective; therefore, the Council targeted a spawning escapement of 180,000 for SRFC, the upper end of the conservation objective for this stock, in developing the 2022 ocean salmon fisheries. The adopted management measures provide for a projected SRFC spawning escapement of 198,694. For KRFC in 2022, SOFL is 50,906 (potential spawner abundance forecast) multiplied by 1−FMSY (1−0.71), or 14,763 returning spawners. SABC is 50,906 multiplied by 1−FABC (1−0.68) (FMSY reduced for scientific uncertainty = 0.68) or 16,290 returning spawners. SACL is set equal to SABC, i.e., 16,290 spawners. When KRFC potential spawner abundance is projected to be less than 54,267 natural-area adults, fisheries are managed under the de minimis portion of the control rule, which allows for some fishing opportunity but results in the expected escapement falling below 40,700 natural-area adult spawners (SMSY). The adopted management measures provide for a projected KRFC spawning escapement of 38,180. For Willapa Bay natural coho salmon in 2022, SOFL = 51,464 (potential spawner abundance forecast) multiplied by 1−FMSY (1−0.74) or 13,381 returning spawners. SABC is 51,464 multiplied by 1−FABC (1−0.70) (FMSY reduced for scientific uncertainty = 0.70) or 15,439. SACL is set equal to SABC, i.e., 15,439 spawners. The adopted management measures provide for a projected Willapa Bay natural coho salmon ocean escapement of 24,418. In summary, for 2022, the projected abundance of the three stocks with ACLs (SRFC, KRFC, and Willapa Bay natural coho salmon), in combination with the constraints for ESA-listed and non-ESA-listed stocks, is expected to result in escapements greater than required to meet the ACLs for all three stocks with defined ACLs.

Public Comments

The Council invited written comments on developing 2022 salmon management measures in their notice announcing public meetings and hearings (86 FR 70114, December 9, 2021). At its March meeting, the Council developed three alternatives for 2022 commercial and recreational salmon management measures having a range of quotas, season structure, and impacts, from the least restrictive in Alternative I to the most restrictive in Alternative III, as well as three alternatives for 2022 North of Cape Falcon treaty Indian troll salmon management measures. These alternatives are described in detail in PRE II. Subsequently, comments were taken at three public hearings held in March, staffed by representatives of the Council and NMFS. The Council received 320 written comments on 2022 ocean salmon fisheries via their electronic portal. The three public hearings were attended by a total of 145 people; 38 people provided oral comments. Comments came from individual fishers, fishing associations, fish buyers, processors, the general public, and conservation organizations. Written and oral comments addressed the 2022 management alternatives described in PRE II and generally expressed preferences for a specific alternative or for particular season structures. All comments were made available via the Council's online briefing book for the April 2022 Council meeting and were considered by the Council, which includes a representative from NMFS, in developing the recommended management measures transmitted to NMFS on April 21, 2022. In addition to comments collected at the public hearings and those submitted directly to the Council, several people provided oral comments at the April 2022 Council meeting. NMFS also invited comments to be submitted directly to the Council or to NMFS, via the Federal Rulemaking Portal (www.regulations.gov) in a notice (87 FR 4869, January 31, 2022); NMFS received 20,509 comments via the Federal Rulemaking Portal.

Comments on alternatives for commercial salmon fisheries. Many written comments were from commercial salmon fisheries located on the coast of California. Of those written comments, the majority supported Alternative I followed by Alternative II. Those testifying on north of Cape Falcon commercial salmon fisheries at the Washington hearing supported the total allowable catch for Chinook salmon in Alternative I and specifically the 65,000 Chinook salmon and 210,000 coho salmon total allowable catches. Those testifying on south of Cape Falcon commercial salmon fisheries at the Oregon hearing supported Alternative I. Those testifying on south of Cape Falcon commercial salmon fisheries at the California hearing largely supported Alternative I and splitting the July and August dates into 5-day openers. The Council adopted commercial fishing measures north and south of Cape Falcon that are within the range of the alternatives considered.

Comments on alternatives for recreational fisheries. Many written comments did not identify the fishery being commented on, either by geography or sector. Those that did submit written comments specifically on recreational fisheries supported Alternative I almost unanimously. Most spoke to maximizing fishing opportunity, which would be consistent with Alternative I. Many spoke to the economic benefit to businesses and communities from recreational fisheries. In-person testimony on recreational fisheries at the three public hearings was similar to the written comments—support for maximizing fishing opportunity. The Council adopted recreational fishing measures north and south of Cape Falcon that are within the range of alternatives considered.

Comments from federally recognized tribes, including treaty tribe representatives. At its March and April meetings, the Council heard testimony from members of several federally recognized tribes including tribes with treaty rights for salmon harvest; additional tribal comments were submitted in writing. Tribes expressed concerns over the uncertainty of forecasts for some stocks in 2022 and the ramifications of the proposed ocean fisheries and some specific management measures to inland tribal fisheries. Some concerns were directed towards Columbia River stocks such as the Lower River Hatchery tules (LRH; hatchery Columbia River tule fall Chinook salmon below Bonneville Dam) and lower Columbia River coho salmon. Tribes also expressed concerns over the underutilization of hatcheries as a salmon recovery tool while minimizing any potential risks to natural origin fish.

Comments on SRKW. NMFS and the Council received a combined 20,677 comments regarding SRKW. The majority of these comments were not relevant to the development of the 2022 annual management measures for ocean salmon fisheries; rather these comments reiterated comments NMFS previously addressed in the final EA for FMP Amendment 21 (https://www.fisheries.noaa.gov//action/amendment-21-pacific-coast-salmon-fishery-management-plan) and in the notice of agency decision (86 FR 51017, September 14, 2021). The minority of these comments that were directed at the 2022 annual management measures requested restrictions beyond those included in the Council's Alternative III for 2022 ocean salmon management measures (the most restrictive alternative developed for the 2022 ocean salmon management measures), requesting further restriction of catch limits, limiting size of quotas, limiting season lengths, and closing additional areas to fishing.

The Council, including the NMFS representative, took all of these comments into consideration. The Council's final recommendation generally includes aspects of all three alternatives, while taking into account the best available scientific information and ensuring that fisheries are consistent with impact limits and accountability measures for ESA-listed species, ACLs, PST obligations, MSA requirements, and tribal fishing rights. The Council and NMFS also considered comments on the NEPA analysis in preparing the final EA.

2022 Specifications and Management Measures

The Council's recommended ocean harvest levels and management measures for the 2022 fisheries are designed to apportion the burden of protecting the weak stocks identified and discussed in PRE I equitably among ocean fisheries and to allow maximum harvest of natural and hatchery runs surplus to inside fishery and spawning needs. NMFS finds the Council's recommendations to be responsive to the goals of the FMP, the requirements of the resource, and the socioeconomic factors affecting resource users. The recommendations are consistent with the requirements of the MSA, U.S. obligations to Indian tribes with federally recognized fishing rights, and U.S. international obligations regarding Pacific salmon. The Council's recommended management measures are consistent with the proposed actions analyzed in NMFS' ESA consultations for those ESA-listed species that may be affected by Council fisheries, and are otherwise consistent with ESA obligations. Accordingly, NMFS, through this final rule, approves and implements the Council's recommendations.

North of Cape Falcon, 2022 management measures for non-Indian commercial troll and recreational fisheries have slightly decreased quotas for Chinook salmon compared to 2021 due to the lower abundance of LCR natural tule Chinook, lower Columbia River hatchery Chinook, and Spring Creek Hatchery Chinook salmon; coho salmon quotas are substantially higher than in 2021, due to much higher abundance forecasts for Columbia River and coastal Washington coho salmon stocks, but was constrained by low forecasts for Thompson and Puget Sound natural coho salmon. Overall, north of Cape Falcon non-Indian commercial and recreational total allowable catch in 2022 is 54,000 Chinook salmon and 200,000 coho salmon marked with a healed adipose fin clip. The commercial troll fishery, north of Cape Falcon, will have a May-June Chinook salmon only fishery with a quota of 18,000 Chinook salmon, and a July-September fishery with a quota of 9,000 Chinook salmon or 32,000 marked coho salmon. The recreational fishery, north of Cape Falcon, will have a July-September fishery with a total allowable catch of 27,000 Chinook salmon and 168,000 marked coho salmon, with subarea quotas.

Quotas for the 2022 treaty-Indian commercial troll fishery North of Cape Falcon are 40,000 Chinook salmon and 52,000 coho salmon in ocean management areas and Washington State Statistical Area 4B combined. These quotas provide the same amount of Chinook salmon and substantially more coho salmon than in 2021. The treaty-Indian commercial fisheries include a May-June fishery with a quota of 20,000 Chinook salmon, and a July-September fishery, with quotas of 20,000 Chinook salmon and 52,000 coho salmon.

South of Cape Falcon, commercial troll and recreational fishery management measures are designed to meet conservation and management goals for KRFC spawning escapement and to not exceed the ESA-take limits for CC Chinook salmon and LCR tule Chinook salmon.

The timing of the March and April Council meetings makes it impracticable for the Council to recommend fishing seasons that begin before mid-May of the same year. Therefore, this action also establishes the 2023 fishing season that opens earlier than May 16. The Council recommended, and NMFS concurs, that the commercial and recreational seasons will open in 2023 as indicated under the “Season Description” headings (in “Section 1. Commercial Management Measures for 2022 Ocean Salmon Fisheries” and “Section 2. Recreational Management Measures for 2022 Ocean Salmon Fisheries”) of this final rule. At the March and/or April 2023 meeting, NMFS may take inseason action, if recommended by the Council, to adjust the commercial and recreational seasons prior to the effective date of the 2023 management measures which are expected to be effective in mid-May 2023. In 2023, the Treaty Indian ocean troll season will open May 1, consistent with all preseason regulations in place for Treaty Indian Troll fisheries during May 16-June 30, 2022. All catch in May 2023 applies against the 2023 Treaty Indian Troll fisheries quota. This opening could be modified following Council review at its March and/or April 2023 meetings.

Sections 1, 2, and 3 below set out the final specifications and management measures for the ocean salmon fishery for 2022 and, as specified, for 2023. Section 1 governs commercial fisheries; Section 2 governs recreational fisheries; and Section 3 governs Treaty Indian Fisheries. Also, Section 4 below provides requirements for halibut retention; Section 5 provides geographical landmarks; and Section 6 specifies notice procedures for inseason modifications. These measures were recommended by the Council and approved by NMFS. Those elements of the measures set forth below that refer to fisheries implemented prior to May 16, 2022 were promulgated in our 2021 rule (86 FR 26425, May 14, 2021; 86 FR 28293, May 26, 2021) and modified by inseason action at the March and April 2022 Council meetings (87 FR 24882, April 27, 2022), and are included for information only and to provide continuity for the public and for states adopting conforming regulations each May that refer to the Federal rule for the same year.

Section 1. Commercial Management Measures for 2022 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies requirements, definitions, restrictions, and exceptions.

Fisheries may need to be adjusted through inseason action to meet NMFS ESA consultation standards, FMP requirements, other management objectives, or upon receipt of new allocation recommendations from the California Fish and Game Commission.

A. Season Description

North of Cape Falcon, OR

—U.S./Canada border to Cape Falcon

May 1-15, 2022;

May 16 through the earlier of June 29, or 18,000 Chinook salmon.

No more than 6,040 of which may be caught in the area between the U.S./Canada border and the Queets River, and no more than 4,840 of which may be caught in the area between Leadbetter Point and Cape Falcon (see C.8). Open seven days per week (see C.1). In the area between the U.S./Canada border and the Queets River the landing and possession limit is 80 Chinook salmon per vessel per landing week (Thursday-Wednesday) (see C.1, C.6). In the area between Leadbetter Point and Cape Falcon the landing and possession limit is 80 Chinook salmon per vessel per landing week (Thursday-Wednesday) (see C.1, C.6). All salmon, except coho salmon (see C.4, C. 7). Chinook salmon minimum size limit of 27 inches total length (see B). See compliance requirements (see C.1) and gear restrictions and definitions (see C.2, C.3). When it is estimated that approximately 50 percent of the overall Chinook salmon quota or any Chinook subarea guideline has been landed, inseason action may be considered to ensure the quota and subarea guidelines are not exceeded.

In 2023, the season will open May 1 consistent with all preseason regulations in place in this area and subareas during May 16-June 29, 2022, including subarea salmon guidelines and quotas and weekly vessel limits except as described below for vessels fishing or in possession of salmon north of Leadbetter Point. This opening could be modified following Council review at its March and/or April 2023 meetings.

July 1 through the earlier of September 30, or 9,000 Chinook salmon or 32,000 coho salmon (see C.8).

Open seven days per week. All salmon. Chinook salmon minimum size limit of 27 inches total length. Coho salmon minimum size limit of 16 inches total length (see B, C.1). All coho salmon must be marked with a healed adipose fin clip (see C.8.d). No chum salmon retention north of Cape Alava, Washington beginning August 1 (see C.4, C.7). See compliance requirements (see C.1) and gear restrictions and definitions (see C.2, C.3). Landing and possession limit of 150 marked coho salmon per vessel per landing week (Thursday-Wednesday) (see C.1). When it is estimated that approximately 50 percent of the overall Chinook salmon quota or any Chinook salmon subarea guideline has been landed, inseason action may be considered to ensure the quota and subarea guidelines are not exceeded.

For all commercial troll fisheries north of Cape Falcon: Mandatory closed areas include: Salmon Troll Yelloweye Rockfish Conservation Area (YRCA), Cape Flattery, and Columbia Control Zones, and beginning August 8, Grays Harbor Control Zone (see C.5). Vessels must land and deliver their salmon within 24 hours of any closure of this fishery. Vessels may not land fish east of the Sekiu River or east of the Megler-Astoria Bridge. Vessels fishing or in possession of salmon north of Leadbetter Point must land and deliver all species of fish in a Washington port and must possess a Washington troll and/or salmon delivery license. For delivery to Washington ports south of Leadbetter Point, vessels must notify the WDFW at 360-249-1215 prior to crossing the Leadbetter Point line with area fished, total Chinook salmon, coho salmon, and halibut catch aboard, and destination with approximate time of delivery. During any single trip, only one side of the Leadbetter Point line may be fished (see C.11). Vessels fishing or in possession of salmon while fishing south of Leadbetter Point must land and deliver all species of fish within the area and south of Leadbetter Point, except that Oregon permitted vessels may also land all species of fish in Garibaldi, OR. All Chinook salmon caught north of Cape Falcon and being delivered by boat to Garibaldi, OR must meet the minimum legal total length of 28 inches for Chinook salmon for south of Cape Falcon seasons unless the season in waters off Garibaldi, OR have been closed for Chinook salmon retention for more than 48 hours (see C.1).

Under state law, vessels must report their catch on a state fish receiving ticket. Oregon State regulations require all fishers landing salmon into Oregon from any fishery between Leadbetter Point, WA and Cape Falcon, OR to notify the Oregon Department of Fish and Wildlife (ODFW) within one hour of delivery or prior to transport away from the port of landing by either calling 541-857-2546 or sending notification via email to nfalcon.trollreport@odfw.oregon.gov. Notification shall include vessel name and number, number of salmon by species, port of landing and location of delivery, and estimated time of delivery. Inseason actions may modify harvest guidelines in later fisheries to achieve or prevent exceeding the overall allowable troll harvest impacts (see C.8).

Vessels in possession of salmon north of the Queets River may not cross the Queets River line without first notifying WDFW at 360-249-1215 with area fished, total Chinook salmon, coho salmon, and halibut catch aboard, and destination. Vessels in possession of salmon south of Queets River may not cross the Queets River line without first notifying WDFW at 360-249-1215 with area fished, total Chinook salmon, coho salmon, and halibut catch aboard, and destination (see C.11). Inseason actions may modify harvest guidelines in later fisheries to achieve or prevent exceeding the overall allowable troll harvest impacts (C.8).

South of Cape Falcon, OR

—Cape Falcon to Heceta Bank Line

March 15-May 15, 2022;

May 21-31;

June 1-12, 18-30;

July 5-9, 17-21, 25-31;

August 4-11;

September 1-4, 11-14;

October 1-31 (see C.9.a).

Open seven days per week. All salmon, except coho salmon (see C.4, C.7). Chinook salmon minimum size limit of 28 inches total length (see B, C.1). All vessels fishing in the area must land their salmon in the state of Oregon. See gear restrictions and definitions (see C.2, C.3). Beginning September 1, no more than 100 Chinook salmon allowed per vessel per landing week (Thursday-Wednesday).

• Mark-selective coho salmon fishery is open July 5-9, 17-21, 25-31, and August 4-11, or until a Cape Falcon to Humbug Mountain quota of 10,000 marked coho salmon is met. If the coho salmon quota for the combined area from Cape Falcon to Humbug Mountain of 10,000 marked coho salmon is met, then the season continues for all salmon except coho salmon on the remaining open days.

All salmon. All retained coho salmon must be marked with a healed adipose fin clip (see C.4, C.7). Coho salmon minimum size limit of 16 inches total length, and Chinook salmon minimum size limit of 28 inches total length (see B, C.1). All vessels fishing in the area must land their salmon in the State of Oregon. See gear restrictions and definitions (see C.2, C.3). Salmon trollers may take and retain or possess on board a fishing vessel no more than 30 coho salmon per vessel per open period. All coho salmon retained, possessed on a vessel, and landed must not exceed a 1:1 ratio with Chinook salmon that are retained and landed at the same time.

In 2023, the season will open March 15 for all salmon except coho salmon. Chinook salmon minimum size limit of 28 inches total length. Gear restrictions same as in 2022. This opening could be modified following Council review at its March 2023 meeting.

—Heceta Bank Line to Humbug Mountain

May 1-15, 2022;

May 21-31;

August 4-11;

September 1-4, 11-14;

October 1-31 (see C.9.a).

Open seven days per week. All salmon, except coho salmon (see C.4, C.7). Chinook salmon minimum size limit of 28 inches total length (see B, C.1). All vessels fishing in the area must land their salmon in the State of Oregon. See gear restrictions and definitions (see C.2, C.3). Beginning September 1, no more than 100 Chinook salmon allowed per vessel per landing week (Thursday-Wednesday).

• Mark-selective coho salmon fishery open August 4-11; or Cape Falcon to Humbug Mountain quota of 10,000 marked coho salmon. If the coho salmon quota for the combined area from Cape Falcon to Humbug Mountain of 10,000 marked coho salmon is met, then the season continues for all salmon except coho salmon on the remaining open days.

All salmon. All retained coho salmon must be marked with a healed adipose fin clip (see C.4, C.7). Coho salmon minimum size limit of 16 inches total length, and Chinook salmon minimum size limit of 28 inches total length (see B, C.1). All vessels fishing in the area must land their salmon in the State of Oregon. See gear restrictions and definitions (see C.2, C.3). Salmon trollers may take and retain or possess on board a fishing vessel no more than 30 coho salmon per vessel per open period. All coho salmon retained, possessed on a vessel, and landed must not exceed a 1:1 ratio with Chinook salmon that are retained and landed at the same time.

In 2023, the season will open March 15 for all salmon except coho salmon. Chinook salmon minimum size limit of 28 inches total length. Gear restrictions same as in 2022. This opening could be modified following Council review at its March 2023 meeting.

—Humbug Mountain to Oregon/California border (Oregon KMZ)

March 15-April 30;

June 1-30, or the earlier of 800 Chinook salmon quota;

July 1-31, or the earlier of 400 Chinook salmon quota;

August 1-28, or the earlier of 250 Chinook salmon quota (see C.9.a).

Open seven days per week (Thursday-Wednesday). All salmon, except coho (see C.4, C.7). Chinook salmon minimum size limit of 28 inches total length (see B, C.1). See compliance requirements (see C.1) and gear restrictions and definitions (see C.2, C.3). Prior to June 1, all salmon caught in this area must be landed and delivered in the State of Oregon. June 1-August 28 weekly landing and possession limit of 50 Chinook salmon per vessel per week (Thursday-Wednesday). Any remaining portion of Chinook salmon quotas may be transferred inseason on an impact neutral basis to the next open quota period (see C.8.b). All vessels fishing in this area during June, July, and August must land and deliver all salmon within the area or into Port Orford within 24 hours of any closure of this fishery and prior to fishing outside of this area. For all quota managed seasons, Oregon state regulations require fishers to notify ODFW within one hour of landing and prior to transport away from the port of landing by calling 541-857-2538 or sending notification via email to kmzor.trollreport@odfw.oregon.gov, with vessel name and number, number of salmon by species, location of delivery, and estimated time of delivery.

In 2023, the season will open March 15 for all salmon except coho salmon. Chinook salmon minimum size limit of 28 inches total length. Gear restrictions are the same as in 2022. This opening could be modified following Council review at its March 2023 meeting.

—Oregon/California border to Humboldt South Jetty (California KMZ)

Closed in 2022.

In 2023, the season will open May 1 through the earlier of May 31, or a 3,000 Chinook salmon quota. Chinook salmon minimum size limit of 27 inches total length (see B, C.1). Landing and possession limit of 20 Chinook salmon per vessel per day (see C.8.f). Open five days per week (Friday-Tuesday). All salmon, except coho salmon (see C.4, C.7). Any remaining portion of Chinook salmon quotas may be transferred inseason on an impact neutral basis to the next open quota period (see C.8.b). All fish caught in this area must be landed within the area, within 24 hours of any closure of the fishery (see C.6), and prior to fishing outside the area (see C.10). See compliance requirements (see C.1) and gear restrictions and definitions (see C.2, C.3). Klamath Control Zone closed (see C.5.e). See California State regulations for an additional closure adjacent to the Smith River. This opening could be modified following Council review at its March or April 2023 meetings.

—Humboldt South Jetty to Latitude 40°10′ N

Closed in 2022.

For all commercial fisheries south of Cape Falcon: When the fishery is closed between the Oregon/California border and Humbug Mountain, and closed south or the Oregon/California border, vessels with fish on board caught in the open area off California may seek temporary mooring in Brookings, Oregon prior to landing in California only if such vessels first notify the Chetco River Coast Guard Station via VHF channel 22A between the hours of 0500 and 2200 and provide the vessel name, number of fish on board, and estimated time of arrival (see C.6).

—Latitude 40°10′ N to Point Arena (Fort Bragg)

July 8-12, 21-25;

August 3-12 (see C.9.b).

Open seven days per week. All salmon, except coho salmon (see C.4, C.7). See compliance requirements (see C.1) and gear restrictions and definitions (see C.2, C.3). Chinook salmon minimum size limit of 27 inches total length (see B, C.1). All salmon must be landed in California and north of Point Arena (see C.6, C.11).

In 2023, the season will open April 16 for all salmon except coho salmon (see C.4, C.7). Chinook salmon minimum size limit of 27 inches total length (see B, C.1). Gear restrictions are the same as in 2022 (see C.2, C.3). This opening could be modified following Council review at its March 2023 meeting.

—Point Arena to Pigeon Point (San Francisco)

July 8-12, 21-25;

August 3-12;

September 1-30 (see C.9.b).

Open seven days per week. All salmon, except coho salmon (see C.4, C.7). Chinook salmon minimum size limit of 27 inches total length through August, then 26 inches thereafter (see B, C.1). See compliance requirements (see C.1) and gear restrictions and definitions (see C.2, C.3). All salmon must be landed in California (see C.6). During September, all salmon must be landed south of Point Arena (see C.6, C.11).

In 2023, the season will open May 1 for all salmon except coho salmon (see C.4, C.7). Chinook salmon minimum size limit of 27 inches total length (see B, C.1). Gear restrictions are the same as in 2022 (see C.2, C.3). This opening could be modified following Council review at its March or April 2023 meeting.

—Point Reyes to Point San Pedro (Fall Area Target Zone)

October 3-7, 10-14.

Open five days per week (Monday-Friday). All salmon, except coho salmon (see C.4, C.7). Chinook salmon minimum size limit of 26 inches total length (see B, C.1). All salmon caught in this area must be landed between Point Arena and Pigeon Point (see C.6, C.11). See compliance requirements (see C.1) and gear restrictions and definitions (see C.2, C.3).

—Pigeon Point to U.S./Mexico border (Monterey)

May 1-5, 2022, 10-15, 2022,

May 20-24;

June 1-12;

July 8-12, 21-25;

August 3-12 (see C.9.b).

Open seven days per week. All salmon, except coho salmon (see C.4, C.7). Chinook salmon minimum size limit of 27 inches total length (see B, C.1). See compliance requirements (see C.1) and gear restrictions and definitions (see C.2, C.3). All salmon must be landed in California (see C.6). All salmon caught in this area in the month of May must be landed within 24 hours of any closure of the fishery (see C.6). During the month of May and June, all salmon caught in the area must be landed south of Point Arena (see C.11).

In 2023, the season will open May 1 for all salmon, except coho salmon (see C.4, C.7). Chinook salmon minimum size limit of 27 inches total length (see B, C.1). Gear restrictions same as in 2022 (see C.2, C.3). This opening could be modified following Council review at its March or April 2023 meeting.

For all commercial troll fisheries in California: California State regulations require all salmon made available to a CDFW representative for sampling immediately at port of landing. Any person in possession of a salmon with a missing adipose fin, upon request by an authorized agent or employee of the CDFW, shall immediately relinquish the head of the salmon to the State (California Fish and Game Code § 8226).

B. Minimum Size (Inches) (See C.1)

Table 1—Minimum Size Limits for Salmon in the 2022 Commercial Ocean Salmon Fisheries
Area (when open) | Chinook: Total length | Chinook: Head-off | Coho: Total length | Coho: Head-off | Pink
North of Cape Falcon, OR | 27.0 | 20.5 | 16 | 12 | None.
Cape Falcon to Humbug Mountain | 28.0 | 21.5 | 16 | 12 | None.
Humbug Mountain to OR/CA border | 28.0 | 21.5 |  |  | None.
OR/CA border to Humboldt South Jetty |  |  |  |  |
Latitude 40°10′0″ N to Point Arena | 27.0 | 20.5 |  |  | 27.
Point Arena to Pigeon Point (through August) | 27.0 | 20.5 |  |  | 27.
Point Arena to Pigeon Point (September-October) | 26.0 | 19.5 |  |  | 26.
Pigeon Point to U.S./Mexico border | 27.0 | 20.5 |  |  | 27.
Metric equivalents: 28.0 in = 71.1 cm, 27.0 in = 68.5 cm, 26 in = 66 cm, 21.5 in = 54.6 cm, 20.5 in = 52.1 cm, 19.5 in = 49.5 cm, 16.0 in = 40.6 cm, and 12.0 in = 30.5 cm.

C. Requirements, Definitions, Restrictions, or Exceptions

C.1. Compliance With Minimum Size or Other Special Restrictions

All salmon on board a vessel must meet the minimum size landing/possession limit, or other special requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable state law must include on the state landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon, OR, to the Oregon/California border: No more than 4 spreads are allowed per line.

c. Oregon/California border to U.S./Mexico border: No more than 6 lines are allowed per vessel, and barbless circle hooks are required when fishing with bait by any means other than trolling.

C.3. Gear Definitions

Trolling: Fishing from a boat or floating device that is making way by means of a source of power, other than drifting by means of the prevailing water current or weather conditions.

Troll fishing gear: One or more lines that drag hooks behind a moving fishing vessel engaged in trolling. In that portion of the fishery management area off Oregon and Washington, the line or lines must be affixed to the vessel and must not be intentionally disengaged from the vessel at any time during the fishing operation.

Spread: A single leader connected to an individual lure and/or bait.

Circle hook: A hook with a generally circular shape and a point which turns inward, pointing directly to the shank at a 90° angle.

C.4. Vessel Operation in Closed Areas With Salmon on Board

a. Except as provided under C.4.b below, it is unlawful for a vessel to have troll or recreational gear in the water while in any area closed to fishing for a certain species of salmon, while possessing that species of salmon; however, fishing for species other than salmon is not prohibited if the area is open for such species, and no salmon are in possession.

b. When Genetic Stock Identification (GSI) samples will be collected in an area closed to commercial salmon fishing, the scientific research permit holder shall notify NOAA Office of Law Enforcement, U.S. Coast Guard (USCG), CDFW, WDFW, ODFW, and Oregon State Police at least 24 hours prior to sampling and provide the following information: The vessel name, date, location and time collection activities will be done. Any vessel collecting GSI samples in a closed area shall not possess any salmon other than those from which GSI samples are being collected. Salmon caught for collection of GSI samples must be immediately released in good condition after collection of samples.

C.5. Control Zone Definitions

a. Cape Flattery Control Zone—The area from Cape Flattery (48°23′00″ N lat.) to the northern boundary of the U.S. EEZ; and the area from Cape Flattery south to Cape Alava (48°10′00″ N lat.) and east of 125°05′00″ W long.

b. Mandatory Yelloweye Rockfish Conservation Area—The area in Washington Marine Catch Area 3 from 48°00.00′ N lat.; 125°14.00′ W long. to 48°02.00′ N lat.; 125°14.00′ W long. to 48°02.00′ N lat.; 125°16.50′ W long. to 48°00.00′ N lat.; 125°16.50′ W long. and connecting back to 48°00.00′ N lat.; 125°14.00′ W long.

c. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

d. Columbia Control Zone—An area at the Columbia River mouth, bounded on the west by a line running northeast/southwest between the red lighted Buoy #4 (46°13′35″ N lat., 124°06′50″ W long.) and the green lighted Buoy #7 (46°15'09' N lat., 124°06′16″ W long.); on the east, by the Buoy #10 line which bears north/south at 357° true from the south jetty at 46°14′00″ N lat.,124°03′07″ W long. to its intersection with the north jetty; on the north, by a line running northeast/southwest between the green lighted Buoy #7 to the tip of the north jetty (46°15′48″ N lat., 124°05′20″ W long.), and then along the north jetty to the point of intersection with the Buoy #10 line; and, on the south, by a line running northeast/southwest between the red lighted Buoy #4 and tip of the south jetty (46°14′03″ N lat., 124°04′05″ W long.), and then along the south jetty to the point of intersection with the Buoy #10 line.

e. Klamath Control Zone—The ocean area at the Klamath River mouth bounded on the north by 41°38′48″ N lat. (approximately 6 nautical miles north of the Klamath River mouth); on the west by 124°23′00″ W long. (approximately 12 nautical miles off shore); and on the south by 41°26′48″ N lat. (approximately 6 nautical miles south of the Klamath River mouth).

f. Waypoints for the 40 fathom regulatory line from Cape Falcon to Humbug Mountain (50 CFR 660.71 (o) (12)-(70)), when in place.

C.6. Notification When Unsafe Conditions Prevent Compliance With Regulations

If prevented by unsafe weather conditions or mechanical problems from meeting special management area landing restrictions, vessels must notify the USCG and receive acknowledgment of such notification prior to leaving the area. This notification shall include the name of the vessel, port where delivery will be made, approximate number of salmon (by species) on board, the estimated time of arrival, and the specific reason the vessel is not able to meet special management area landing restrictions.

In addition to contacting the USCG, vessels fishing south of the Oregon/California border must notify CDFW within one hour of leaving the management area by calling 800-889-8346 and providing the same information as reported to the USCG. All salmon must be offloaded within 24 hours of reaching port.

C.7. Incidental Halibut Harvest

License applications for incidental harvest for halibut during commercial salmon fishing must be obtained from the International Pacific Halibut Commission (IPHC).

a. During the 2022 salmon troll season, incidental harvest is authorized only during April, May, and June, and after June 30 if quota remains and if announced on the NMFS hotline (phone: 800-662-9825 or 206-526-6667). WDFW, ODFW, and CDFW will monitor landings. If the landings are projected to exceed the IPHC's preseason allocation or the total Area 2A non-Indian commercial halibut allocation, NMFS will take inseason action to prohibit retention of halibut in the non-Indian salmon troll fishery.

b. Through May 15, 2022, consistent with regulations adopted in April 2021, license holders may land no more than one Pacific halibut per each two Chinook salmon, except one Pacific halibut may be landed without meeting the ratio requirement, and no more than 35 halibut may be landed per trip.

c. Beginning May 16, 2022, through the end of the 2022 salmon troll fishery, and beginning April 1, 2023, until modified through inseason action or superseded by the 2023 management measures, license holders may land or possess no more than one Pacific halibut per two Chinook salmon, except one Pacific halibut may be possessed or landed without meeting the ratio requirement, and no more than 35 halibut may be possessed or landed per trip. Pacific halibut retained must be no less than 32 inches in total length (with head on).

d. Incidental Pacific halibut catch regulations in the commercial salmon troll fishery adopted for 2022, prior to any 2022 inseason action, will be in effect when incidental Pacific halibut retention opens on April 1, 2023, unless otherwise modified by inseason action at the March 2023 Council meeting.

e. “C-shaped” yelloweye rockfish conservation area is an area to be voluntarily avoided for salmon trolling. NMFS and the Council request salmon trollers voluntarily avoid this area in order to protect yelloweye rockfish. The area is defined in the Pacific Council Halibut Catch Sharing Plan in the North Coast subarea (Washington marine area 3), with the following coordinates in the order listed:

48°18′ N lat.; 125°18′ W long.;

48°18′ N lat.; 124°59′W long.;

48°11′ N lat.; 124°59′ W long.;

48°11′ N lat.; 125°11′ W long.;

48°04′ N lat.; 125°11′ W long.;

48°04′ N lat.; 124°59′ W long.;

48°00′ N lat.; 124°59′ W long.;

48°00′ N lat.; 125°18′ W long.

And connecting back to 48°18′ N lat.; 125°18′ W long.

C.8. Inseason Management

In addition to standard inseason actions or modifications already noted under the Season Description heading above, the following inseason guidance applies:

a. Chinook salmon remaining from the May through June non-Indian commercial troll harvest guideline north of Cape Falcon may be transferred to the July through September harvest guideline if the transfer would not result in exceeding preseason impact expectations on any stocks.

b. Chinook salmon remaining from May, June, and/or July non-Indian commercial troll quotas in the Oregon or California KMZ may be transferred to the Chinook salmon quota for the next open period if the transfer would not result in exceeding preseason impact expectations on any stocks.

c. NMFS may transfer salmon between the recreational and commercial fisheries north of Cape Falcon if there is agreement among the areas' representatives on the SAS, and if the transfer would not result in exceeding preseason impact expectations on any stocks.

d. The Council will consider inseason recommendations for special regulations for any experimental fisheries annually in March; proposals must meet Council protocol and be received in November the year prior.

e. If retention of unmarked coho salmon (adipose fin intact) is permitted by inseason action, the allowable coho salmon quota will be adjusted to ensure preseason projected impacts on all stocks is not exceeded.

f. Landing limits may be modified inseason to sustain season length and keep harvest within overall quotas.

C.9. State Waters Fisheries

Consistent with Council management objectives:

a. The state of Oregon may establish additional late-season fisheries in state waters.

b. The state of California may establish limited fisheries in selected state waters.

c. Check state regulations for details.

C.10. For the purpose of California Fish and Game Code, Section 8232.5, the definition of the KMZ for the ocean salmon season shall be that area from Humbug Mountain, Oregon, to Latitude 40°10′ N.

C.11. Latitudes for geographical reference of major landmarks along the West Coast, including those used for inseason modifications to salmon management areas (see C.8.g.), are listed in Section 5 of this final rule.

Section 2. Recreational Management Measures for 2022 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions, and exceptions.

Fisheries may need to be adjusted through inseason action to meet NMFS ESA consultation standards, FMP requirements, other management objectives, or upon receipt of new allocation recommendations from the California Fish and Game Commission.

A. Season Description

North of Cape Falcon, OR

—U.S./Canada border to Cape Alava (Neah Bay Subarea)

June 18 through earlier of September 30, or 17,470 marked coho salmon subarea quota, with a subarea guideline of 6,110 Chinook salmon (see C.5).

Open seven days per week. All salmon, except chum salmon beginning August 1; two salmon per day. All coho salmon must be marked with a healed adipose fin clip (see C.1). Chinook salmon minimum size limit of 24 inches total length (see B). See gear restrictions and definition (see C.2, C.3)

Beginning August 1, Chinook salmon non-retention east of the Bonilla-Tatoosh line (see C.4.a) during Council managed ocean fishery.

Inseason management may be used to sustain season length and keep harvest within the overall Chinook salmon and coho salmon recreational total allowable catch (TAC) for north of Cape Falcon (see C.5).

—Cape Alava to Queets River (La Push Subarea)

June 18 through earlier of September 30, or 4,370 marked coho subarea quota, with a subarea guideline of 995 Chinook salmon (see C.5).

Open seven days per week. All salmon, except chum salmon beginning August 1; two salmon per day. All coho salmon must be marked with a healed adipose fin clip (see C.1). See gear restrictions and definitions (see C.2, C.3). Chinook salmon minimum size limit of 24 inches total length (see B).

Inseason management may be used to sustain season length and keep harvest within the overall Chinook salmon and coho salmon recreational TACs for north of Cape Falcon (see C.5).

October 5 through earlier of October 8, or 125 Chinook salmon quota (see C.5) in the area north of 47°50′00″ N lat. and south of 48°00′00″ N lat.

Open seven days per week. Chinook salmon only, two Chinook salmon per day. See gear restrictions and definitions (see C.2, C.3). Chinook salmon minimum size limit of 24 inches total length (see B, C.1).

—Queets River to Leadbetter Point (Westport Subarea)

July 2 through earlier of September 30, or 62,160 marked coho salmon subarea quota, with a subarea guideline of 12,070 Chinook salmon (see C.5).

Open seven days per week. All salmon; two salmon per day, no more than one of which may be a Chinook salmon. All coho salmon must be marked with a healed adipose fin clip (see C.1). See gear restrictions and definitions (see C.2, C.3). Chinook salmon minimum size limit of 22 inches total length (see B).

Grays Harbor Control Zone closed beginning August 8 (see C.4.b). Inseason management may be used to sustain season length and keep harvest within the overall Chinook and coho salmon recreational TACs for north of Cape Falcon (see C.5).

—Leadbetter Point to Cape Falcon (Columbia River Subarea)

June 25 through earlier of September 30, or 84,000 marked coho salmon subarea quota, with a subarea guideline of 7,700 Chinook salmon (see C.5).

Open seven days per week. All salmon; two salmon per day, no more than one of which may be a Chinook salmon. All coho salmon must be marked with a healed adipose fin clip (see C.1). See gear restrictions and definitions (see C.2, C.3). Chinook salmon minimum size limit of 22 inches total length (see B).

Columbia Control Zone closed (see C.4.c). Inseason management may be used to sustain season length and keep harvest within the overall Chinook salmon and coho salmon recreational TACs for north of Cape Falcon (see C.5).

South of Cape Falcon, OR

—Cape Falcon to Humbug Mountain

March 15-May 15, 2022;

May 16-October 31 (see C.6).

Open seven days per week. All salmon except coho salmon, except as provided below during the all-salmon mark-selective coho salmon fishery and the non-mark-selective coho fishery (see C.5), two fish per day (see C.1). Chinook salmon minimum size limit of 24 inches total length (see B). See gear restrictions and definitions (see C.2, C.3).

In 2023, the season will open March 15 for all salmon except coho salmon, two salmon per day (see C.1). Chinook salmon minimum size limit of 24 inches total length (see B); and the same gear restrictions as in 2022 (see C.2, C.3). This opening could be modified following Council review at its March 2023 meeting.

—Cape Falcon to Oregon/California Border

All-salmon mark-selective coho salmon fishery: June 18 through the earlier of August 21, or 100,000 marked coho salmon quota (see C.6).

Open seven days per week. Cape Falcon to Humbug Mountain: All salmon two salmon per day. Humbug Mountain to Oregon/California Border: June 18-24, all salmon except Chinook salmon, two salmon per day; and June 25-August 21 or coho salmon quota, all salmon, two salmon per day. All retained coho salmon must be marked with a healed adipose fin clip. See minimum size limits (see B). See gear restrictions and definitions (see C.2, C.3).

Any remainder of the mark-selective coho salmon quota may be transferred inseason on an impact neutral basis to the non-selective coho quota from Cape Falcon to Humbug Mountain (see C.5).

—Cape Falcon to Humbug Mountain

Non-mark-selective coho salmon fishery: September 3 through the earlier of September 30, or 17,000 non-mark-selective coho salmon quota (see C.6). Open days may be modified inseason.

Open seven days per week. All salmon, two salmon per day (see C.1). See minimum size limits (see B). See gear restrictions and definitions (see C.2, C.3).

—Humbug Mountain to Oregon/California Border (Oregon KMZ)

June 25-August 21 (see C.6).

Open seven days per week. All salmon, except coho salmon, except as listed above for the mark-selective coho salmon fishery.

From Cape Falcon to the Oregon/California border (June 18-August 21). Two salmon per day (see C.1). Chinook salmon minimum size limit of 24 inches total length (see B). See gear restrictions and definitions (see C.2, C.3).

For all Recreational Fisheries from Cape Falcon to Humbug Mountain: Fishing in the Stonewall Bank yelloweye rockfish conservation area restricted to trolling only on days the all depth recreational halibut fishery is open (call the halibut fishing hotline 1-800-662-9825 for specific dates) (see C.3.b, C.4.d).

—Oregon/California Border to Latitude 40°10′ N (California KMZ)

May 1-15, 2022;

May 16-31;

August 1-September 5 (see C.6).

Open seven days per week. All salmon except coho salmon, two salmon per day (see C.1). Chinook salmon minimum size limit of 20 inches total length (see B). See gear restrictions and definitions (see C.2, C.3).

Klamath Control Zone closed in August (see C.4.e). See California State regulations for additional closures adjacent to the Smith, Eel, and Klamath Rivers.

In 2023, season opens May 1 for all salmon except coho salmon, two salmon per day (see C.1). Chinook salmon minimum size limit of 20 inches total length (see B); and the same gear restrictions as in 2022 (see C.2, C.3). This opening could be modified following Council review at its March or April 2023 meeting.

—Latitude 40°10′ N to Point Arena (Fort Bragg)

May 1-15, 2022;

May 16-July 4;

July 22-September 5 (see C.6).

Open seven days per week. All salmon, except coho salmon, two salmon per day (see C.1). Chinook salmon minimum size limit of 20 inches total length (see B). See gear restrictions and definitions (see C.2, C.3).

In 2023, season opens April 1 for all salmon except coho salmon, two salmon per day (see C.1). Chinook salmon minimum size limit of 20 inches total length (see B); and the same gear restrictions as in 2022 (see C.2, C.3). This opening could be modified following Council review at its March 2023 meeting.

—Point Arena to Pigeon Point (San Francisco)

April 2-May 15, 2022 (see C.6).

Open seven days per week. All salmon, except coho salmon, two salmon per day (see C.1). Chinook salmon minimum size limit of 24 inches total length (see B). See gear restrictions and definitions (see C.2, C.3).

May 16-31;

June 23-October 31 (see C.6).

Open seven days per week. All salmon, except coho salmon, two salmon per day (see C.1). Chinook salmon minimum size limit of 20 inches total length (see B). See gear restrictions and definitions (see C.2, C.3).

In 2023, season opens April 1 for all salmon, except coho salmon, two salmon per day (see C.1). Chinook salmon minimum size limit of 24 inches total length (see B); and the same gear restrictions as in 2022 (see C.2, C.3). This opening could be modified following Council review at its March 2023 meeting.

—Pigeon Point to U.S./Mexico Border (Monterey)

April 2-May 15, 2022 (C.6).

Open seven days per week. All salmon, except coho salmon, two salmon per day (see C.1). Chinook salmon minimum size limit of 24 inches total length (see B). See gear restrictions and definitions (see C.2, C.3).

May 16-October 2 (see C.6).

Open seven days per week. All salmon, except coho salmon, two salmon per day (see C.1). Chinook salmon minimum size limit 20 inches total length. See gear restrictions and definitions (see C.2, C.3).

In 2023, season opens April 1 for all salmon, except coho salmon, two salmon per day (see C.1). Chinook salmon minimum size limit of 24 inches total length (see B); and the same gear restrictions as in 2022 (see C.2, C.3). This opening could be modified following Council review at its March 2023 meeting.

California State regulations require all salmon be made available to a CDFW representative for sampling immediately at port of landing. Any person in possession of a salmon with a missing adipose fin, upon request by an authorized agent or employee of the CDFW, shall immediately relinquish the head of the salmon to the state (California Code of Regulations Title 14 Section 1.73).

B. Minimum Size (Total Length in Inches) (See C.1)

Table 2—Minimum Size Limits for Salmon in the 2022 Recreational Salmon Fisheries
Area (when open) | Chinook | Coho | Pink
North of Cape Falcon (Westport and Columbia River) | 22.0 | 16.0 | None.
North of Cape Falcon (Neah Bay and La Push) | 24.0 | 16.0 | None.
Cape Falcon to Humbug Mountain | 24.0 | 16.0 | None.
Humbug Mountain to Oregon/California border | 24.0 | 16.0 | None.
Oregon/California border to Point Arena | 20.0 |  | 20.0.
Point Arena to Pigeon Point through May 15 | 24.0 |  | 24.0.
Point Arena to Pigeon Point beginning May 16 | 20.0 |  | 20.0.
Pigeon Point to U.S./Mexico border through May 15 | 24.0 |  | 24.0.
Pigeon Point to U.S./Mexico border beginning May 16 | 20.0 |  | 20.0.
Metric equivalents: 24.0 in = 61.0 cm, 22.0 in = 55.9 cm, 20.0 in = 50.8 cm, and 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted prior to landing.

Ocean Boat Limits: Off the coast of Washington, Oregon, and California, each fisher aboard a vessel may continue to use angling gear until the combined daily limits of Chinook and coho salmon for all licensed and juvenile anglers aboard have been attained (additional state restrictions may apply).

C.2. Gear Restrictions

Salmon may be taken only by hook and line using barbless hooks. All persons fishing for salmon, and all persons fishing from a boat with salmon on board must meet the gear restrictions listed below for specific areas or seasons.

a. U.S./Canada Border to Point Conception, California: No more than one rod may be used per angler; and no more than two single point, single shank, barbless hooks are required for all fishing gear.

b. Latitude 40°10′ N to Point Conception, California: Single point, single shank, barbless circle hooks (see gear definitions below) are required when fishing with bait by any means other than trolling, and no more than two such hooks shall be used. When angling with two hooks, the distance between the hooks must not exceed five inches when measured from the top of the eye of the top hook to the inner base of the curve of the lower hook, and both hooks must be permanently tied in place (hard tied). Circle hooks are not required when artificial lures are used without bait.

C.3. Gear Definitions

a. Recreational fishing gear defined: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed four pounds (1.8 kg). While fishing off California north of Point Conception, no person fishing for salmon, and no person fishing from a boat with salmon on board, may use more than one rod and line. Fishing includes any activity which can reasonably be expected to result in the catching, taking, or harvesting of fish.

b. Trolling defined: Angling from a boat or floating device that is making way by means of a source of power, other than drifting by means of the prevailing water current or weather conditions.

c. Circle hook defined: A hook with a generally circular shape and a point which turns inward, pointing directly to the shank at a 90° angle.

C.4. Control Zone Definitions

a. The Bonilla-Tatoosh Line: A line running from the western end of Cape Flattery to Tatoosh Island Lighthouse (48°23′30″ N lat., 124°44′12″ W long.) to the buoy adjacent to Duntze Rock (48°24′37″ N lat., 124°44′37″ W long.), then in a straight line to Bonilla Point (48°35′39″ N lat., 124°42′58″ W long.) on Vancouver Island, British Columbia.

b. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

c. Columbia Control Zone: An area at the Columbia River mouth, bounded on the west by a line running northeast/southwest between the red lighted Buoy #4 (46°13′35″ N lat., 124°06′50″ W long.) and the green lighted Buoy #7 (46°15′09″ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long. and then along the north jetty to the point of intersection with the Buoy #10 line; and on the south, by a line running northeast/southwest between the red lighted Buoy #4 and tip of the south jetty (46°14′03″ N lat., 124°04′05″ W long.), and then along the south jetty to the point of intersection with the Buoy #10 line.

d. Stonewall Bank YRCA: The area defined by the following coordinates in the order listed:

44°37.46′ N lat.; 124°24.92′ W long.

44°37.46′ N lat.; 124°23.63′ W long.

44°28.71′ N lat.; 124°21.80′ W long.

44°28.71′ N lat.; 124°24.10′ W long.

44°31.42′ N lat.; 124°25.47′ W long.

And connecting back to 44°37.46′ N lat.; 124°24.92′ W long.

e. Klamath Control Zone: The ocean area at the Klamath River mouth bounded on the north by 41°38′48″ N lat. (approximately 6 nautical miles north of the Klamath River mouth); on the west by 124°23′00″ W long. (approximately 12 nautical miles offshore); and, on the south by 41°26′48″ N lat. (approximately 6 nautical miles south of the Klamath River mouth).

C.5. Inseason Management

Regulatory modifications may become necessary inseason to meet preseason management objectives such as quotas, harvest guidelines, and season duration. In addition to standard inseason actions or modifications already noted under the Season Description heading above, the following inseason guidance applies:

a. Actions could include modifications to bag limits, or days open to fishing, and extensions or reductions in areas open to fishing.

b. Coho salmon may be transferred inseason among recreational subareas north of Cape Falcon to help meet the recreational season duration objectives (for each subarea) after conferring with representatives of the affected ports and the Council's SAS recreational representatives north of Cape Falcon, and if the transfer would not result in exceeding preseason impact expectations on any stocks.

c. Chinook salmon and coho salmon may be transferred between the recreational and commercial fisheries north of Cape Falcon if there is agreement among the representatives of the SAS, and if the transfer would not result in exceeding preseason impact expectations on any stocks.

d. Fishery managers may consider inseason action modifying regulations restricting retention of unmarked (adipose fin intact) coho salmon. To remain consistent with preseason expectations, any inseason action shall consider, if significant, the difference between observed and preseason forecasted (adipose-clipped) mark rates. Such a consideration may also include a change in bag limit of two salmon, no more than one of which may be a coho.

e. Marked coho salmon remaining from the Cape Falcon to Oregon/California Border: recreational mark-selective coho salmon quota may be transferred inseason to the Cape Falcon to Humbug Mountain non-mark-selective recreational fishery if the transfer would not result in exceeding preseason impact expectations on any stocks.

C.6. Additional Seasons in State Territorial Waters

Consistent with Council management objectives, the states of Washington, Oregon, and California may establish limited seasons in state waters. Check state regulations for details.

Section 3. Treaty Indian Management Measures for 2022 Ocean Salmon Fisheries

Parts A, B, and C of this section contain requirements that must be followed for lawful participation in the fishery.

In 2023, the season will open May 1, consistent with all preseason regulations in place for Treaty Indian Troll fisheries during May 16-June 30, 2022. All catch in May 2023 applies against the 2023 Treaty Indian Troll fisheries quota. This opening could be modified following Council review at its March and/or April 2023 meetings.

A. Season Descriptions

May 1 through the earlier of June 30 or when the quota of 20,000 Chinook salmon is reached.

All salmon may be retained except coho salmon. If the Chinook salmon quota is exceeded, the excess will be deducted from the later all-salmon season (see C.5). See size limit (see B) and other restrictions (see C).

July 1 through the earlier of September 15, or when the quota of 20,000 Chinook salmon or the quota of 52,000 coho salmon is reached.

All salmon. See size limit (see B) and other restrictions (see C).

B. Minimum Size (Inches)

Table 3—Minimum Size Limits for Salmon in the 2022 Treaty Indian Ocean Salmon Fisheries
Area (when open) | Chinook: Total | Chinook: Head-off | Coho: Total | Coho: Head-off | Pink
North of Cape Falcon | 24.0 | 18.0 | 16.0 | 12.0 | None.
Metric equivalents: 24.0 in = 61.0 cm, 18.0 in = 45.7 cm, 16.0 in = 40.6 cm, 12.0 in = 30.5 cm.

C. Requirements, Definitions, Restrictions, or Exceptions

C.1. Tribe and Area Boundaries

All boundaries may be changed to include such other areas as may hereafter be authorized by a Federal court for that tribe's treaty fishery.

S'KLALLAM—Washington State Statistical Area 4B (defined to include those waters of Puget Sound easterly of a line projected from the Bonilla Point light on Vancouver Island to the Tatoosh Island light, thence to the most westerly point on Cape Flattery and westerly of a line projected true north from the fishing boundary marker at the mouth of the Sekiu River [WAC 220-301-030]).

MAKAH—Washington State Statistical Area 4B and that portion of the Fishery Management Area (FMA) north of 48°02′15″ N lat. (Norwegian Memorial) and east of 125°44′00″ W long.

QUILEUTE—A polygon commencing at Cape Alava, located at latitude 48°10′00″ north, longitude 124°43′56.9″ west; then proceeding west approximately forty nautical miles at that latitude to a northwestern point located at latitude 48°10′00″ north, longitude 125°44′00″ west; then proceeding in a southeasterly direction mirroring the coastline at a distance no farther than forty nautical miles from the mainland Pacific coast shoreline at any line of latitude, to a southwestern point at latitude 47°31′42″ north, longitude 125°20′26″ west; then proceeding east along that line of latitude to the Pacific coast shoreline at latitude 47°31′42″ north, longitude 124°21′9.0″ west.

HOH—That portion of the FMA between 47°54′18″ N lat. (Quillayute River) and 47°21′00″ N lat. (Quinault River) and east of 125°44′00″ W long.

QUINAULT—A polygon commencing at the Pacific coast shoreline near Destruction Island, located at latitude 47°40′06″ north, longitude 124°23′51.362″ west; then proceeding west approximately thirty nautical miles at that latitude to a northwestern point located at latitude 47°40′06″ north, longitude 125°08′30″ west; then proceeding in a southeasterly direction mirroring the coastline no farther than thirty nautical miles from the mainland Pacific coast shoreline at any line of latitude, to a southwestern point at latitude 46°53′18″ north, longitude 124°53′53″ west; then proceeding east along that line of latitude to the Pacific coast shoreline at latitude 46°53′18″ north, longitude 124°7′36.6″ west.

C.2. Gear Restrictions

a. Single point, single shank, barbless hooks are required in all fisheries.

b. No more than eight fixed lines per boat.

c. No more than four hand held lines per person in the Makah area fishery (Washington State Statistical Area 4B and that portion of the FMA north of 48°02′15″ N lat. (Norwegian Memorial) and east of 125°44′00″ W long.).

C.3. Quotas

a. The quotas include troll catches by the S'Klallam and Makah Tribes in Washington State Statistical Area 4B from May 1 through September 15.

b. The Quileute Tribe may continue a ceremonial and subsistence fishery during the time frame of October 1 through October 15 in the same manner as in 2004-2015. Fish taken during this fishery are to be counted against treaty troll quotas established for the 2022 season (estimated harvest during the October ceremonial and subsistence fishery: 20 Chinook salmon; 40 coho salmon).

C.4. Area Closures

a. The area within a six nautical mile radius of the mouths of the Queets River (47°31′42″ N lat.) and the Hoh River (47°45′12″ N lat.) will be closed to commercial fishing.

b. A closure within two nautical miles of the mouth of the Quinault River (47°21′00″ N lat.) may be enacted by the Quinault Nation and/or the State of Washington and will not adversely affect the Secretary of Commerce's management regime.

C.5. Inseason Management

In addition to standard inseason actions or modifications already noted under the “Season Description” heading above, the following inseason guidance applies:

a. Chinook remaining from the May through June treaty-Indian ocean troll harvest guideline north of Cape Falcon may be transferred to the July through September harvest guideline on a fishery impact equivalent basis.

Section 4. Halibut Retention

Under the authority of the Northern Pacific Halibut Act, NMFS promulgated regulations governing the Pacific halibut fishery, which appear at 50 CFR part 300, subpart E. On March 7, 2022, NMFS published a final rule announcing the IPHC's regulations, including season dates, management measures, TAC for each IPHC management area including the U.S. West Coast (Area 2A), and Catch Sharing Plan for the U.S. waters off of Alaska (87 FR 12604, March 7, 2022). The Area 2A Catch Sharing Plan, in combination with the IPHC regulations, provides that vessels participating in the salmon troll fishery in Area 2A, which have obtained the appropriate IPHC license, may retain halibut caught incidentally during authorized periods in conformance with provisions published with the annual salmon management measures. A salmon troller may participate in the halibut incidental catch fishery during the salmon troll season or in the directed commercial fishery targeting halibut, but not both.

The following measures have been approved by the IPHC and implemented by NMFS. During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on.

License applications for incidental harvest must be obtained from the IPHC (phone: 206-634-1838 or secretariat@iphc.int). Applicants must apply prior to mid-March 2023 for 2023 permits (exact date to be set by the IPHC in early 2023). Incidental harvest is authorized only during April, May, and June of the 2022 troll seasons and after June 30 in 2022 if the quota remains and if announced on the NMFS hotline (phone: 800-662-9825 or 206-526-6667). WDFW, ODFW, and CDFW will monitor landings. If the landings are projected to exceed the 44,599 pound preseason allocation or the total Area 2A non-Indian commercial halibut allocation, NMFS will take inseason action to prohibit retention of halibut in the non-Indian salmon troll fishery.

From May 16, 2022, until the end of the 2022 salmon troll season, and beginning April 1, 2023, until modified through inseason action or superseded by the 2023 management measures, license holders may land or possess no more than one Pacific halibut per each two Chinook salmon, except one Pacific halibut may be possessed or landed without meeting the ratio requirement, and no more than 35 halibut may be possessed or landed per trip. Pacific halibut retained must be no less than 32 inches in total length (with head on). IPHC license holders must comply with all applicable IPHC regulations.

Incidental Pacific halibut catch regulations in the commercial salmon troll fishery adopted for 2022, prior to any 2022 inseason action, will be in effect when incidental Pacific halibut retention opens on April 1, 2023, unless otherwise modified by inseason action at the March 2023 Council meeting.

NMFS and the Council request that salmon trollers voluntarily avoid a “C-shaped” YRCA (also known as the Salmon Troll YRCA) in order to protect yelloweye rockfish. Coordinates for the Salmon Troll YRCA are defined at 50 CFR 660.70(a) in the North Coast subarea (Washington marine area 3). See Section 1.C.7 in this document for the coordinates.

Section 5. Geographical Landmarks

Wherever the words “nautical miles off shore” are used in this document, the distance is measured from the baseline from which the territorial sea is measured.

Geographical landmarks referenced in this document are at the following locations:

U.S./Canada border: 49°00′00″ N lat.

Cape Flattery, WA: 48°23′00″ N lat.

Cape Alava, WA: 48°10′00″ N lat.

Queets River, WA: 47°31′42″ N lat.

Leadbetter Point, WA: 46°38′10″ N lat.

Cape Falcon, OR: 45°46′00″ N lat.

South end Heceta Bank Line, OR: 43°58′00″ N lat.

Humbug Mountain, OR: 42°40′30″ N lat.

Oregon-California border: 42°00′00″ N lat.

Humboldt South Jetty, CA: 40°45′53″ N lat.

40°10′ line (near Cape Mendocino, CA): 40°10′00″ N lat.

Horse Mountain, CA: 40°05′00″ N lat.

Point Arena, CA: 38°57′30″ N lat.

Point Reyes, CA: 37°59′44″ N lat.

Point San Pedro, CA: 37°35′40″ N lat.

Pigeon Point, CA: 37°11′00″ N lat.

Point Sur, CA: 36°18′00″ N lat.

Point Conception, CA: 34°27′00″ N lat.

U.S./Mexico border: 34°27′00″ N lat.

Section 6. Inseason Notice Procedures

Notice of inseason management actions will be provided by a telephone hotline administered by the West Coast Region, NMFS, 800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishermen should monitor either the telephone hotline or USCG broadcasts for current information for the area in which they are fishing.

Classification

NMFS is issuing this rule pursuant to section 305(d) of the MSA. In a previous action taken pursuant to section 304(b), the Council designed the FMP to authorize NMFS to take this action pursuant to MSA section 305(d). See 50 CFR 660.408. These regulations are being promulgated under the authority of 16 U.S.C. 1855(d) and 16 U.S.C. 773(c).

This final rule has been determined to be not significant for purposes of Executive Order 12866.

The Assistant Administrator for Fisheries finds good cause under 5 U.S.C. 553(b)(B), to waive the requirement for prior notice and opportunity for public comment, as such procedures would be impracticable and contrary to the public interest. The annual salmon management cycle begins May 16 and continues through May 15 of the following year. May 16 was chosen because it provides the minimally necessary time required to complete the necessary environmental and economic analyses and regulatory documentation following the April Council meeting in time for the Secretary of Commerce to approve and implement the Council's annual recommendation. In addition, these harvests constitute a relatively small portion of the annual catch, allowing for the majority of the season to be governed by the new management measures rule. Analysis by the Council's Salmon Technical Team determined that the pre-May 16 salmon harvests would constitute a relatively small portion of the annual catch. The time frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from previous years' observed spawning escapement, vary substantially from year to year and are not available until January or February because spawning escapement continues through the fall. The preseason planning and public review process associated with developing Council recommendations is initiated in February as soon as the forecast information becomes available. The public planning process requires coordination of management actions of four states, numerous Indian tribes, and the Federal Government, all of which have management authority over the stocks. This complex process includes the affected user groups, as well as the general public. The process is compressed into a two-month period culminating with the April Council meeting at which the Council adopts a recommendation that is forwarded to NMFS for review, approval, and implementation of fishing regulations effective on May 16. Providing the opportunity for prior notice and public comments on the Council's recommended measures through a proposed and final rulemaking process would require 30 to 60 days in addition to the two-month period required for the development of the regulations. Delaying implementation of annual fishing regulations, which are based on the current stock abundance projections, for an additional 60 days would require that fishing regulations for May and June be set in the previous year, without the benefit of information regarding current stock abundance. For the 2022 fishing regulations, the current stock abundance was not available to the Council until February. In addition, information related to northern fisheries and stock status in Alaska and Canada which is important to assess the amount of available salmon in southern U.S. ocean fisheries is not available until mid-to late March. Because a substantial amount of fishing normally occurs during late May and June, managing the fishery with measures developed using the prior year's data could have significant adverse effects on the managed stocks, including ESA-listed stocks. Although salmon fisheries that open prior to May 16 are managed under measures developed the previous year, as modified by the Council at its March and April meetings, relatively little harvest occurs during that period (e.g., on average, 10 percent of commercial and recreational harvest occurred prior to May 1 during the years 2011 through 2018). Allowing the much more substantial harvest levels normally associated with the late-May and June salmon seasons to be promulgated under the prior year's regulations would impair NMFS' ability to protect weak and ESA-listed salmon stocks, and to provide harvest opportunities where appropriate. The choice of May 16 as the beginning of the regulatory season balances the need to gather and analyze the data needed to meet the management objectives of the salmon FMP and the need to manage the fishery using the best available scientific information.

If the 2022 measures are not in place on May 16, salmon fisheries will not open as scheduled. This would result in lost fishing opportunities, negative economic impacts, and confusion for the public as the state fisheries adopt concurrent regulations that conform to the Federal management measures.

In addition, these measures were developed with significant public input. Public comment was received and considered by the Council and NMFS throughout the process of developing these management measures. As described above, the Council took comments at its March and April meetings and heard summaries of comments received at public meetings held between the March and April meetings for each of the coastal states. NMFS also invited comments in a notice published prior to the March Council meeting, and considered comments received by the Council through its representative on the Council.

Based upon the above-described need to have these measures effective on May 16, and the fact that there is limited time available to implement these new measures after the final Council meeting in April, and before the commencement of the 2022 ocean salmon fishing year on May 16, NMFS has concluded it would be impracticable and contrary to the public interest to provide an opportunity for prior notice and public comment under 5 U.S.C. 553(b)(B).

The Assistant Administrator for Fisheries also finds that good cause exists under 5 U.S.C. 553(d)(3), to waive the 30-day delay in the date of effectiveness of this final rule. As previously discussed, data were not available until February, and management measures were not finalized until mid-April. These measures are essential to conserve threatened and endangered ocean salmon stocks as well as potentially overfished stocks, and to provide for the harvest of more abundant stocks. Delaying the date of effectiveness of these measures by 30 days could compromise the ability of some stocks to attain their conservation objectives, preclude harvest opportunity, and negatively impact anticipated international, state, and tribal salmon fisheries, thereby undermining the purposes of this agency action and the requirements of the MSA.

To enhance the fishing industry's notification of these new measures, and to minimize the burden on the regulated community required to comply with the new regulations, NMFS is announcing the new measures over the telephone hotline used for inseason management actions and is posting the regulations on its West Coast Region website (www.fisheries.noaa.gov/region/west-coast). NMFS is also advising the states of Washington, Oregon, and California of the new management measures. These states announce the seasons for applicable state and federal fisheries through their own public notification systems.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This action contains collection-of-information requirements subject to the Paperwork Reduction Act (PRA), and which have been approved by the Office of Management and Budget (OMB) under control number 0648-0433. The current information collection approval expires on February 29, 2024. The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

This final rule was developed after meaningful consultation with the tribal representative on the Council who has agreed with the provisions that apply to tribal vessels.

Authority: 16 U.S.C. 773-773k; 1801 et seq.

Dated: May 10, 2022.
Samuel D. Rauch, III,
Deputy Assistant Administrator for Regulatory Programs, National Marine Fisheries Service.

[FR Doc. 2022-10430 Filed 5-13-22; 8:45 am]

BILLING CODE 3510-22-P